DEPARTMENT OF COMMERCE

National Oceanic and Atmospheric Administration

[I.D. 080106C]

RIN 0648-AS84

Fisheries of the Exclusive Economic Zone Off Alaska; Individual Fishing Quota Program; Community Development Quota Program

AGENCY: National Marine Fisheries Service (NMFS), National Oceanic and Atmospheric Administration (NOAA), Commerce.

ACTION: Notice of availability; request for comments.

SUMMARY: The North Pacific Fishery Management Council (Council) has submitted Amendment 67 to the Fishery Management Plan for Groundfish of the Gulf of Alaska (FMP). If approved, Amendment 67 would amend the limitations on use of quota share (QS) and individual fishing quota (IFQ) in the Gulf of Alaska (GOA). Under current regulations, IFQ derived from category B QS must be used on vessels greater than 60 ft (18.29 m) length overall (LOA) in Area 2C and the Southeast Outside District, unless the QS is a block of less than or equal to 5,000 lb (2.27 mt), based on 1996 total allowable catches (TACs). This action would allow all category B QS to be fished on a vessel of any length in all areas, including Area 2C, and is intended to promote the goals and objectives of the Magnuson-Stevens Fishery Conservation and Management Act (Magnuson-Stevens Act), the FMP, and other applicable laws. Comments from the public are welcome.

DATES: Comments on the amendment must be received on or before December 4, 2006.

ADDRESSES: Send comments to Sue Salveson, Assistant Regional Administrator, Sustainable Fisheries Division, Alaska Region, NMFS, Attn: Ellen Walsh. Comments may be submitted by:

• E-mail: 0648-AS84-GOA67-NOA@noaa.gov. Include in the subject line the following document identifier: GOA 67 NOA. E-mail comments, with or without attachments, are limited to 5 megabytes.

• Mail: P.O. Box 21668, Juneau, AK 99802.

• Hand delivery: 709 West 9th Street, Room 420A, Juneau, AK.

• Fax: 907-586-7557.

Copies of Amendment 67 and the Environmental Assessment/Regulatory Impact Review/Initial Regulatory Flexibility Analysis (EA/RIR/IRFA) for the amendment may be obtained from the mailing address specified above or from the Alaska Region NMFS Web site at http://www.fakr.noaa.gov.

FOR FURTHER INFORMATION CONTACT: Jay Ginter, 907-586-7172 or Jay.Ginter@noaa.gov.

SUPPLEMENTARY INFORMATION: The Magnuson-Stevens Act requires that each Regional Fishery Management Council submit any FMP amendment it prepares to NMFS for review and approval, disapproval, or partial approval. The Magnuson-Stevens Act also requires that NMFS, upon receiving an FMP amendment, immediately publish a notice in the Federal Register that the amendment is available for public review and comment.

The Council recommended Amendment 67 in December 2004. Under the current FMP and regulations, sablefish category B QS IFQ must be used on vessels greater than 60 ft (18.29 m) LOA in Area 2C and the Southeast Outside District, unless the QS is a block of less than or equal to 5,000 lb (2.27 mt), based on 1996 TACs. If approved by NMFS, this amendment would allow all sablefish category B QS to be fished on a vessel of any length in all areas, including Area 2C.

Background

In 1996, NMFS implemented regulations (61 FR 43312, August 22, 1996) that allow under 60 ft (18.29 m) LOA vessels to fish IFQ derived from category B QS. This is known colloquially as the “fish down” provision. However, at that time, the Council recommended excluding Southeast Outside District sablefish and Area 2C halibut fisheries from the fish down provision to ensure market availability of category B QS for vessels over 60 ft (18.29 m) LOA. Area 2C and Southeast Outside District fishermen subject to the restriction recently identified the “fish down” exclusion as unnecessary, inefficient, and burdensome because the market conditions originally perceived to occur that justified the provision never materialized.

Under current regulations, IFQ derived from category B QS must be used on vessels greater than 60 ft (18.29 m) LOA in Area 2C (for halibut) and the Southeast Outside District (for sablefish), unless the QS is a block of less than or equal to 5,000 lb (2.27 mt), based on 1996 TACs. Category B QS represents a small percentage of total halibut QS in Area 2C and a relatively small proportion of total sablefish QS in the Southeast Outside District. Only IFQ derived from category B QS blocks of less than 5,000 lb (2.27 mt), based on the 1996 TACs, is eligible to be fished down on vessels smaller than 60 ft (18.29 m) LOA. Currently, 75 percent of halibut IFQ derived from category B QS and 96 percent of sablefish IFQ derived from category B QS cannot be fished down. Of the halibut IFQ derived from category B QS that must be fished on a vessel greater than 60 ft (18.29 m) LOA, about half is blocked, with block sizes ranging from 6,000 lb (2.72 mt) to 17,000 lb (7.71 mt), based on the 2004 TACs. For sablefish, only 7 percent of the IFQ derived from category B QS that is ineligible to be fished down is blocked. The affected fishing industry and the Council contend that the discrepancy between the use restrictions on category B QS in Southeast Alaska compared to the rest of the State is discriminatory because the intended effect never occurred and assert that all category B QS should be eligible for fish down to achieve equity.

This action proposes to allow QS holders to fish all IFQ derived from category B QS on a vessel of any length in all areas, including Area 2C and the Southeast Outside District. Over time, this action might contribute to a change in the diversity of the IFQ fleet in Southeast Alaska by decreasing the number of large catcher vessels that are typically greater than 60 ft (18.29 m) LOA. A maximum of 1,414 category B, C, and D halibut QS holders operate in Area 2C and a maximum of 440 category B and C sablefish QS holders operate in the Southeast Outside District. A total of 1,996,568 QS units of halibut and 12,891,624 QS units of sablefish would become eligible for the fish down provision under this action.

Public comments are being solicited on proposed Amendment 67 through the end of the comment period stated (see DATES). A proposed rule to implement the amendment will be published in the Federal Register for public comment concurrently or at a later date. Public comments on the proposed rule must be received by the end of the comment period on the amendment in order to be considered in the approval/disapproval decision on the amendment. All comments received by the end of the comment period on the amendment, whether specifically directed to the amendment or to the proposed rule, will be considered in the approval/disapproval decision. Comments received after that date will not be considered in the approval/disapproval decision on the amendment. To be considered, comments must be received—not just postmarked or otherwise transmitted—by close of business on the last day of the comment period.

Authority: 16 U.S.C. 1801 et seq.

Dated: September 27, 2006.
C. M. Moore,
Acting Director, Office of Sustainable Fisheries, National Marine Fisheries Service.

[FR Doc. E6-16291 Filed 10-2-06; 8:45 am]

BILLING CODE 3510-22-S